DEPARTMENT OF DEFENSE

Department of the Navy

32 CFR Part 701

[Secretary of the Navy Instruction 5211.5]

Privacy Act; Implementation

AGENCY: Department of the Navy DoD.

ACTION: Final rule.

SUMMARY: On August 7, 2000 (65 FR 48170), the Department of Defense published a Navy Privacy Act final rule amendment. This document makes codification corrections to section 701.118(u).

EFFECTIVE DATE: July 18, 2000.

FOR FURTHER INFORMATION CONTACT: L. M. Bynum or P. Toppings, 703-697-4111.

SUPPLEMENTARY INFORMATION:

List of Subjects in 32 CFR Part 701

Privacy.

Under the authority of 10 U.S.C. 301, 32 CFR Part 701 is corrected as follows:

PART 701—[AMENDED]

1. The authority citation for 32 CFR part 701 continues to read as follows:

Authority: Public Law 93-579, 88 Stat 1896 (5 U.S.C. 552a).

§ 701.118 [Amended]

2. Section 701.118(u) as published in the Federal Register of August 7, 2000 at page 48170, is corrected by redesignating the paragraphs as follows:

Old | New
(u)(i) | (u)(1)
(u)(ii) | (u)(2)
(u)(iii) | (u)(3)
(u)(iv) | (u)(4)
(u)(v)(1) | (u)(5)(i)
(u)(v)(2) | (u)(5)(ii)
(u)(v)(3) | (u)(5)(iii)
(u)(v)(4) | (u)(5)(iv)
(u)(v)(5) | (u)(5)(v)
(u)(v)(6) | (u)(5)(vi)
(u)(v)(7) | (u)(5)(vii)
(u)(v)(8) | (u)(5)(vii)
(u)(v)(9) | (u)(5)(ix)
(u)(v)(10) | (u)(5)(x)

Dated: August 28, 2000.
L.M. Bynum,
Alternate OSD Federal Register Liaison Officer, Department of Defense

[FR Doc. 00-22406 Filed 8-31-00; 8:45 am]

BILLING CODE 5001-10-M